GENERAL SERVICES ADMINISTRATION

[Notice-ID-2023-08; Docket No. 2023-0002; Sequence No. 15]

Privacy Act of 1974; System of Records

AGENCY: Office of the Deputy Chief Privacy Officer, General Services Administration, (GSA).

ACTION: Rescindment of a system of records notice.

SUMMARY: Pursuant to the Privacy Act of 1974 and Office of Management and Budget (OMB) Circular No. A-108, notice is hereby given that GSA proposes to rescind the system Federal Acquisition Institute (FAI) Online University (GSA/OAP-5). The rescinded system of records described in this notice no longer maintains any Personally Identifiable Information (PII).

DATES: Submit comments on or before July 7, 2023.

ADDRESSES: Submit comments identified by “Notice-ID-2023-15, Rescindment of a System of Records” via http://www.regulations.gov. Submit comments by searching for “Notice-ID-2023-08, Rescindment of a System of Records.” Select the link “Comment Now” that corresponds with “Notice-ID-2023-08, Rescindment of a System of Records.” Follow the instructions provided on the screen. Please include your name, company name (if any), and “Notice-ID-2023-08, Rescindment of a System of Records” on your attached document.

FOR FURTHER INFORMATION CONTACT: Call or email the GSA Chief Privacy Officer, Richard Speidel. Telephone 202-969-5830, or email gsa.privacyact@gsa.gov.

SUPPLEMENTARY INFORMATION:

The GSA FAI Online University (GSA/OAP-5) is no longer stores any PII data.

SYSTEM NAME AND NUMBER:

FAI Online University. GSA/OAP-5.

HISTORY:

73 FR 22409, May 27, 2008.

Richard Speidel,
Chief Privacy Officer, Office of the Deputy Chief Information Officer, General Services Administration.

[FR Doc. 2023-12167 Filed 6-6-23; 8:45 am]

BILLING CODE 6820-34-P